DEPARTMENT OF VETERANS AFFAIRS

[OMB Control No. 2900-NEW]

Agency Information Collection (Access to Care Dialysis Pilot Survey and Interview); Activities Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before December 20, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Access to Care Dialysis Pilot Survey and Interview).” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW, (Access to Care Dialysis Pilot Survey and Interview).”

SUPPLEMENTARY INFORMATION:

Title: Access to Care Dialysis Pilot Survey and Interview, VA Form 10-10067.

Type of Review: New data collection.

Abstract: In May of 2012, the GAO published a Report to Congressional Requesters titled “VA DIALYSIS PILOT: Increased Attention to Planning, Implementation, and Performance Measurement Needed to Help Achieve Goals” (GAO-12-584, May 23, 2012). The GAO report stated four goals of the Dialysis Pilot, and the second goal, increased access for veterans, is related to this Information Collection (IC). A principal goal of the Dialysis Pilot program for the treatment of End Stage Renal Disease (ESRD) is to improve access to dialysis care for Veterans. This Access to Care IC will include a consideration of the access to care dimensions (e.g., travel distance), patient demographic, and socio-economic characteristics associated with Veterans' use of the pilot VA-operated free-standing outpatient dialysis clinics. This IC will provide an independent assessment and analysis of barriers and facilitators that Veterans may experience while accessing the pilot freestanding outpatient dialysis clinics. At the end of this assessment, a report will be developed that outlines the main findings from this IC and recommendations made that will inform future employment of free-standing outpatient dialysis clinics.

An agency may not conduct or sponsor, and a person is not required to respond to a collection of information unless it displays a currently valid OMB control number. The Federal Register Notice with a 60-day comment period soliciting comments on this collection of information was published on (Tuesday, August 20, 2013), Vol. 78, No. 161, on page 1.

Affected Public: Individuals or households.

Estimated Annual Burden: 50 burden hours.

Estimated Average Burden Per Respondent: 75 minutes.

Frequency of Response: One time.

Estimated Number of Respondents: 40.

Dated: November 15, 2013.
By direction of the Secretary.
Crystal Rennie,
VA Clearance Officer, U.S. Department of Veterans Affairs.

[FR Doc. 2013-27766 Filed 11-19-13; 8:45 am]

BILLING CODE 8320-01-P